DEPARTMENT OF ENERGY

Federal Energy Regulatory Commission

[Docket No. CP15-117-000]

Transcontinental Gas Pipe Line Company, LLC; Supplemental Notice of Intent for the Proposed Dalton Expansion Project, Request for Comments on Environmental Issues Related to New Route Modifications Under Consideration

You are receiving this letter because the staff of the Federal Energy Regulatory Commission (FERC or Commission) is evaluating route modifications to Transcontinental Gas Pipe Line Company, LLC's (Transco) proposed Dalton Expansion Project (Project). The general location of the Project is shown in appendix 1.¹ Since the filing of its March 19, 2015 application, Transco provided two supplemental filings (July 15, 2015 and September 30, 2015) that identified several modifications to its proposed pipeline route. These modifications were incorporated based on the results of ongoing field surveys and to address comments from agencies and other stakeholders. The majority of the landowners potentially affected by these modifications have received notification of the Commission's review of the Project. However, some of the modifications would affect new landowners; therefore, the Commission is issuing this supplemental notice (Notice) to provide these new landowners an opportunity to comment on the Project. You can access detailed mapping of the modifications to the proposed pipeline route on the Commission's Web site (www.ferc.gov) using eLibrary. For instructions on connecting to eLibrary, refer to the last page of this notice.

¹ The appendices referenced in this notice will not appear in the Federal Register. Copies of the appendices were sent to all those receiving this notice in the mail and are available at www.ferc.gov using the link called “eLibrary” or from the Commission's Public Reference Room, 888 First Street NE., Washington, DC 20426, or call (202) 502-8371.

The FERC is the lead federal agency responsible for conducting the environmental review of the Project. The Commission's staff is preparing an environmental assessment (EA) that discusses the environmental impacts of the Project. This EA will be used to inform the Commission as it determines whether the Project is in the public convenience and necessity.

This Notice announces the opening of an additional scoping period the Commission will use to gather input from the new landowners potentially affected by the Project. Comments may be submitted in writing as described in the public participation section of this notice. Please note that comments on this Notice should be filed with the Commission by February 29, 2016.

The specific modifications being scoped by this Notice are listed in the table below.

Route modification | Milepost range | County
Route Variation AE | 30.4 to 31.8 | Paulding
Route Variation AG | 41.5 to 42.8 | Paulding
Route Variation AH | 43.2 to 43.4 | Paulding
Route Variation BH | 63.0 to 64.1 | Bartow
Major Route Alternative H | 43.7 to 56.3 | Paulding and Bartow
Route Variation BS | 91.1 to 91.5 | Gordon

Information in this notice was prepared to familiarize you with the new route modifications, the Project as a whole, the Commission's environmental review process, and instruct you on how to submit comments.

A pipeline company representative may have already contacted you or may contact you soon about surveys and/or to acquire an easement to construct, operate, and maintain the pipeline. The company would seek to negotiate a mutually acceptable agreement. However, if the Commission approves the Project, that approval conveys with it the right of eminent domain. Therefore, if easement negotiations fail to produce an agreement, the pipeline company could initiate condemnation proceedings where compensation would be determined in accordance with state law.

To help potentially affected landowners better understand the Commission and its environmental review process, the “For Citizens” section of the FERC Web site (www.ferc.gov) provides information about getting involved in FERC jurisdictional projects. A citizens' guide entitled “An Interstate Natural Gas Facility On My Land? What Do I Need to Know?” is also available in this section of the Commission's Web site. This guide addresses a number of frequently asked questions, including the use of eminent domain and how to participate in the Commission's proceedings.

Summary of the Proposed Project

Transco plans to construct and operate about 113 miles of new 16, 20, 24, and 30-inch-diameter natural gas pipeline and associated facilities in Coweta, Carroll, Douglas, Paulding, Bartow, Gordon, and Murray Counties, Georgia and a new compressor station in Carroll County, Georgia. Additionally, Transco plans to modify existing facilities along its mainline transmission system in Maryland, Virginia, and North Carolina to accommodate bidirectional flow. Transco has indicated that the Project would provide 448,000 dekatherms per day of incremental firm transportation service to markets in northwest Georgia.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the construction and operation of the Project under these general headings:

• Geology and soils;

• water resources, fisheries, and wetlands;

• vegetation and wildlife;

• endangered and threatened species;

• land use;

• socioeconomics;

• cultural resources;

• air quality and noise; and

• public safety.

We will also evaluate possible alternatives to the Project or portions of the Project, and make recommendations on how to lessen or avoid impacts on the various resource areas.

We began our NEPA review under the Commission's pre-filing process on April 25, 2014. The purpose of the pre-filing process was to encourage the early involvement of interested stakeholders and to identify and resolve issues before the FERC receives an application. On October 21, 2014, FERC staff issued an initial Notice of Intent to Prepare an Environmental Assessment for the Planned Dalton Expansion Project, Request for Comments on Environmental Issues, and Notice of Public Scoping Meetings. FERC Staff also issued two supplemental NOIs for the Project on November 14, 2014 and February 13, 2015.³

³ The November 14, 2014 and February 13, 2015 supplemental NOIs can be viewed on the FERC Internet Web site at www.ferc.gov. Using the “eLibrary” link, select “Advanced Search” from the eLibrary menu and enter 20141114-3019 and 20150213-3012, respectively, in the “Accession Number” field.

The EA will present our independent analysis of the issues. The EA will be available in the public record through eLibrary. We will also publish and distribute the EA to the public for an allotted comment period. We will consider all comments on the EA before we make our recommendations to the Commission. To ensure we have the opportunity to consider and address your comments, please carefully follow the instructions in the Public Participation section of this notice.

Consultations Under Section 106 of the National Historic Preservation Act

In accordance with the Advisory Council on Historic Preservation's implementing regulations for section 106 of the National Historic Preservation Act, we are using this notice to initiate consultation with the applicable State Historic Preservation Office(s), and to solicit their views and those of other government agencies, interested Indian tribes, and the public on the Project's potential effects on historic properties.⁴ We will define the Project-specific Area of Potential Effects (APE) in consultation with the SHPO as the Project develops. On natural gas facility projects, the APE at a minimum encompasses all areas subject to ground disturbance (examples include construction right-of-way, contractor/pipe storage yards, compressor stations, and access roads). Our EA for this Project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before February 29, 2016.

For your convenience, there are three methods you can use to submit your comments to the Commission. In all instances, please reference the Project docket number (CP15-117-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project.⁵ We will continue to update the environmental mailing list as the analysis proceeds to ensure that we send the information related to this environmental review to all individuals, organizations, and government entities interested in and/or potentially affected by the planned Project.

⁵ Because the modifications involve only a subset of the environmental mailing list, this Notice is being provided to only the affected landowners.

Copies of the EA will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the “Document-less Intervention Guide” under the “e-filing” link on the Commission's Web site. Motions to intervene are more fully described at http://www.ferc.gov/resources/guides/how-to/intervene.asp.

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP15-117). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: January 27, 2016.
Nathaniel J. Davis, Sr.,
Deputy Secretary.

[FR Doc. 2016-01918 Filed 2-2-16; 8:45 am]

BILLING CODE 6717-01-P